ENVIRONMENTAL PROTECTION AGENCY

[FRL-7787-7]

Availability of “Allocation of Fiscal Year 2004 Operator Training Grants”

AGENCY: Environmental Protection Agency (EPA).

ACTION: Notice of document availability.

SUMMARY: EPA is announcing availability of a memorandum entitled “Allocation of Fiscal Year 2004 Operator Training Grants” issued on July 2, 2004. This memorandum provides National guidance for the allocation of funds used under section 104(g)(l) of the Clean Water Act.

ADDRESSES: Municipal Assistance Branch, U.S. EPA, 1200 Pennsylvania Avenue, NW., (4204-M), Washington, DC, 20460.

FOR FURTHER INFORMATION CONTACT: Margaret Dodds, (202) 564-0728 or dodds.margaret@epa.gov.

SUPPLEMENTARY INFORMATION: The subject memorandum may be viewed and downloaded from EPA's homepage, http://www.epa.gov/owm/mab/104gallocmem04.pdf.

Dated: July 6, 2004.
James A. Hanlon,
Director, Office of Wastewater Management.

[FR Doc. 04-15946 Filed 7-13-04; 8:45 am]

BILLING CODE 6560-50-P